INTERNATIONAL TRADE COMMISSION

[Investigation No. 337-TA-1370]

Certain Power Converter Modules and Computing Systems Containing the Same; Institution of Investigation

AGENCY: U.S. International Trade Commission.

ACTION: Notice.

SUMMARY: Notice is hereby given that a complaint was filed with the U.S. International Trade Commission on July 12, 2023, under section 337 of the Tariff Act of 1930, as amended, on behalf of Vicor Corporation of Andover, Massachusetts. A supplement to the complaint was filed on July 27, 2023. The complaint, as supplemented, alleges violations of section 337 based upon the importation into the United States, the sale for importation, and the sale within the United States after importation of certain power converter modules and computing systems containing the same by reason of the infringement of certain claims of U.S. Patent No. 9,166,481 (“the '481 patent”), U.S. Patent No. 9,516,761 (“the '761 patent”), and U.S. Patent No. 10,199,950 (“the '950 patent”). The complaint further alleges that an industry in the United States exists as required by the applicable Federal Statute. The complainant requests that the Commission institute an investigation and, after the investigation, issue a limited exclusion order and a cease and desist order.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2022).

Scope of Investigation: Having considered the complaint, the U.S. International Trade Commission, on August 11, 2023, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claim 1 of the '481 patent; claims 1-7 of the '761 patent; and claims 9, 13, 14, and 33-38 of the '950 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “power converter modules used in data center server, artificial intelligence and cloud computing systems, to power artificial intelligence (`AI') accelerators, tensor processing units (`TPU'), graphical processing units (`GPU') and central processing units (`CPU'), and computing systems containing the same”;

(3) For the purpose of the investigation so instituted, the following are hereby named as parties upon which this notice of investigation shall be served:

(a) The complainant is:

Vicor Corporation, 25 Frontage Road, Andover, MA 01810

(b) The respondents are the following entities alleged to be in violation of section 337, and are the parties upon which the complaint is to be served:

Delta Electronics, Inc., 186, Ruey Kuang Road, Neihu Dist., Taipei 114501, Taiwan

Delta Electronics (Americas) Ltd., 46101 Fremont Blvd., Fremont, CA 94538

Delta Electronics (USA) Inc., 2925 E. Plano Pkwy., Plano, TX 75074.

Cyntec Co., Ltd., 2 R&D 2nd Rd., Science-Based Industry Park, Hsinchu 30076, Taiwan

Quanta Computer Inc., No. 211, Wenhua 2nd Rd., Guishan Dist., Taoyuan City 333, Taiwan

Quanta Cloud Technology Inc., 1F, No. 211 Wenhua 2nd Rd., Guishan Dist., Taoyuan City 33377, Taiwan

Quanta Cloud Technology USA LLC, 1010 Rincon Circle, San Jose, CA 95131

Quanta Computer USA Inc., 45630 Northport Loop East, Fremont, CA 94538

Hon Hai Precision Industry Co. Ltd. (d/b/a, Foxconn Technology Group), No. 2, Zihyou St., Tucheng Dist. New Taipei City 236, Taiwan

Foxconn Industrial internet Co. Ltd., 2F C1 Foxconn Technology Park, 2 Donghuan 2 Road Longhua, Shenzhen, 518109 China

FII USA Inc. (a/k/a Foxconn Industrial, Internet USA Inc.), 611 East Wisconsin Ave., Milwaukee, WI 53202,

Ingrasys Technology Inc., 5F., No. 1188, Nanqing Rd., Luzhu Dist., Taoyuan City, Taiwan

Ingrasys Technology USA Inc., 2025 Gateway Place, Ste. 190, San Jose, CA 95110

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: August 14, 2023.
Lisa Barton,
Secretary to the Commission.

[FR Doc. 2023-17717 Filed 8-16-23; 8:45 am]

BILLING CODE 7020-02-P